DEPARTMENT OF DEFENSE

Department of the Army; Corps of Engineers

Intent to Prepare a Draft Environmental Impact Statement for Big Bear Lake “Aquatic Ecosystem Restoration”, a Feasibility Study, Near Big Bear City, San Bernardino County, CA

AGENCY: U.S. Army Corps of Engineers, DoD.

ACTION: Notice of intent.

SUMMARY: The Environmental Impact Statement will address foreseeable environmental impacts from measures being investigated to include sediment removal, flood protection, watershed management, shoreline restoration and habitat restoration at Big Bear Lake, San Bernardino County, CA, will commence. U.S. Army Corps of Engineers and Big Bear Municipal Water District will cooperate in conducting this feasibility study. U.S. Army Corps of Engineers is the lead Federal Agency for this study.

The Big Bear feasibility study will be conducted over the next several years following a planning process that will include public involvement during each of the study phases. The Study may result in a report recommending that Congress authorize a project for implementation by the Corps of Engineers, or that measures could be implemented by another agency to address the problems and needs of the study area. A range of conceptual alternatives were identified, as having a potential for Federal interest, to address the problems and needs of the study area, to include (1) Sediment removal to improve aquatic habitat and public access; (2) Beneficial uses of sediment, including island construction; (3) increased flood protection; (4) Improved watershed management practices to reduce nutrient loading of Big Bear Lake; (5) Shoreline restoration and Stanfield Marsh enhancements; (6) Protecting sensitive and endangered species.

No alternatives have been advanced as yet, so contents of the Draft Environmental Impact Statement (DEIS) remain to be determined during the public scoping process. The portion of this study area includes Big Bear Lake, and 200 feet upgradient of the shoreline, 6 major tributaries and 50 feet either side of said tributaries. Big Bear Municipal Water District has identified, within this watershed, needs associated with loss of wildlife habitat and changes in the ecosystem of the lake. Lake water levels, caused by a multi-year drought, and siltation of the lake have caused changes in the water chemistry and temperature. Those ecological concerns will guide the formulation of plans for this segment of the watershed.

DATES: A scoping meeting will be held October 14, 2003, from 6 p.m. to 8 p.m., at Big Bear Lake Civic Center, located at 39707 Big Bear Boulevard, Big Bear Lake, CA. The scoping period will conclude November 24, 2003. Comments, concerning this notice, should be submitted to the address listed below by November 24, 2003.

ADDRESSES: District Engineer, U.S. Army Corps of Engineers, Los Angeles District, ATTN: CESPL-PD-RP, P.O. Box 532711, Los Angeles, CA 90053-2325.

FOR FURTHER INFORMATION CONTACT: Mr. Timothy Kennedy, Environmental Coordinator, telephone (213) 452-9878, or Mrs. Deborah Lamb, Study Manager, telephone (213) 452-3798. The cooperating entity, Big Bear Municipal Water District, requests inquiries to Ms. Sheila Hamilton, General Manager, telephone (909) 866-5796, for any additional information.

SUPPLEMENTARY INFORMATION:

1. Authorization

This study is being conducted in accordance with the study resolution adopted by the committee on Public Works, House of Representatives, adopted May 8, 1964, authorizing the study of the Santa Ana River Basin and Orange County Streams (SARBOC), CA. In addition, specific directive language was provided by Congress within the Energy and Water Development Appropriations Bill, 2002, which reads as follows: “Santa Ana River and Tributaries, Big Bear Lake, CA—The bill includes $100,000 for the Corps of Engineers to undertake a reconnaissance study of environmental restoration, water quality and related issues at Big Bear Lake, CA.” Funds in the amount of $100,000 were appropriated in Fiscal Year 2002 to conduct the reconnaissance phase of the study, under the title Santa Ana River and Tributaries, Big Bear Lake, CA.

2. Background

Waters of Big Bear Creek originate in adjacent mountains to the north and south of Big Bear Lake. Big Bear Lake drains to the west into Big Bear Creek, then turns southwestward and becomes part of the Santa Ana River watershed. Since before the late 16th century when the Spanish explored the southwest, the river ran continuously all the way to the Pacific Ocean. Where underlying bedrock along its course forced water to the surface, Big Bear Creek was perennial. Historically, reliable surface flows along the river could be found intermittently in Big Bear Valley, to southeastern parts of what is now metropolitan Los Angeles. Subsurface flow, within Big Bear Valley, sustained a riparian community in and around Big Bear Lake, historically a natural lake, before it was dammed in 1884. Year-round water supplied the needs of Big Bear. In 1912 a more modern, and taller, dam was constructed 100 yards down stream from the original 1884 dam. This changed the water impoundment from 25,280 acre feet to more than 73,000 acre feet.

This DEIS will evaluate: (1) Sediment removal to improve aquatic habitat and public access; (2) Beneficial uses of sediment, including island construction; (3) increased flood protection; (4) Improved watershed management practices to reduce nutrient loading of Big Bear Lake; (5) Shoreline restoration and Stanfield Marsh enhancements; (6) Protecting sensitive and endangered species.

Prehistoric and historic cultural resources may be found along this stretch of the lake basin. The study team will comply with all applicable consultation rules as set forth in National Historic Preservation Act. Federally protected species and critical habitat will be considered.

3. Proposed Action

No plan of action has yet been identified.

4. Alternatives

a—No Action: No improvement or reinforcement of existing banks or uplands to stabilize for sedimentation.

b—Proposed Alternative Plans: None have been formulated to date.

5. Scoping Process

Participation of all interested Federal, State and County resource agencies, as well as Native American peoples, groups with environmental interests, and all interested individuals are encouraged. Public involvement will be most beneficial and worthwhile in identifying pertinent environmental issues, offering useful information such as published or unpublished data, direct personal experience or knowledge which inform decision making, assistance in defining the scope of plans which ought to be considered, and recommending suitable mitigation measures warranted by such plans. Those wishing to contribute information, ideas, alternatives for actions, and so forth can furnish these contributions in writing to the points of contacts indicated above, or by attending public scoping opportunities.

The scoping period will conclude 45 days after publication of this notice and simultaneous publication in newspapers circulated in the Big Bear Lake area (see Dates).

When plans have been devised, and alternatives formulated to embody those plans, potential impacts will be evaluated in the DEIS. These assessments will emphasize at least fourteen categories of resources: land use, impromptu historic landfills, hazardous wastes, physical environment, hydrology, groundwater, biological, archaeological, geological, air quality, noise, transportation, socioeconomic, and safety.

Luz D. Ortiz,
Army Federal Register Liaison Officer.

[FR Doc. 03-25759 Filed 10-9-03; 8:45 am]

BILLING CODE 3710-KF-M